DEPARTMENT OF ENERGY

Federal Energy Regulatory Commission

[ Docket Nos. CP14-96-000; PF13-16-000]

Algonquin Gas Transmission, LLC; Notice of Application

Take notice that on February 28, 2014, Algonquin Gas Transmission, LLC (Algonquin), 5400 Westheimer Court, Houston, Texas 77056, filed in the above referenced docket an application pursuant to sections 7(b) and 7(c) of the Natural Gas Act (NGA) for the proposed Algonquin Incremental Market Project (AIM Project). Specifically, Algonquin requests authorization to: (i) construct, install, operate, and maintain approximately 37.6 miles of take-up and relay, loop, and lateral pipeline facilities, and appurtenances in New York, Connecticut, and Massachusetts; (ii) modify six existing compressor stations in New York, Connecticut, and Rhode Island, resulting in the addition of 81,620 horsepower (HP) of compression; (iii) modify 24 existing metering and regulating (M&R) stations and construct three new M&R stations; (iv) abandon certain existing facilities; and (v) approval of the pro forma tariff records to establish the incremental AIM Project firm transportation rate, an incremental fuel percentage applicable to service on the AIM Project, and the initial recourse rates for service on the West Roxbury Lateral (which is part of the proposed AIM Project, but has separate rate schedules). Algonquin states that the AIM Project will provide a total of 342,000 dekatherms per day of firm transportation service. Algonquin estimates the cost of the AIM Project to be approximately $971,551,683, all as more fully set forth in the application which is on file with the Commission and open to public inspection. The filing is available for review at the Commission in the Public Reference Room or may be viewed on the Commission's Web site web at http://www.ferc.gov using the “eLibrary” link. Enter the docket number excluding the last three digits in the docket number field to access the document. For assistance, contact FERC at FERCOnlineSupport@ferc.gov or call toll-free, (886) 208-3676 or TYY, (202) 502-8659.

Any questions concerning this application may be directed to Berk Donaldson, Director, Rates and Certificates, Algonquin Gas Transmission, LLC, PO Box 1642, Houston, Texas 77251-1642, by telephone at (713) 627-4488 or by facsimile at (713) 627-5947.

On June 28, 2013, the Commission staff granted Algonquin's request to utilize the Pre-Filing Process and assigned Docket No. PF13-16-000 to staff activities involved in the AIM Project. Now, as of the filing of the February 28, 2014 application, the Pre-Filing Process for this project has ended. From this time forward, this proceeding will be conducted in Docket No. CP14-96-000, as noted in the caption of this Notice.

Pursuant to section 157.9 of the Commission's rules (18 CFR 157.9), within 90 days of this Notice, the Commission staff will either: complete its environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

There are two ways to become involved in the Commission's review of this project. First, any person wishing to obtain legal status by becoming a party to the proceedings for this project should, on or before the comment date stated below file with the Federal Energy Regulatory Commission, 888 First Street NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit seven copies of filings made in the proceeding with the Commission and must mail a copy to the applicant and to every other party. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commentors will be placed on the Commission's environmental mailing list, will receive copies of the environmental documents, and will be notified of meetings associated with the Commission's environmental review process. Environmental commentors will not be required to serve copies of filed documents on all other parties. However, the non-party commentors will not receive copies of all documents filed by other parties or issued by the Commission (except for the mailing of environmental documents issued by the Commission) and will not have the right to seek court review of the Commission's final order.

The Commission strongly encourages electronic filings of comments, protests and interventions in lieu of paper using the “eFiling” link at http://www.ferc.gov. Persons unable to file electronically should submit an original and 7 copies of the protest or intervention to the Federal Energy regulatory Commission, 888 First Street NE., Washington, DC 20426.

Comment Date: April 8, 2014.

Dated: March 18, 2014.
Kimberly D. Bose,
Secretary.

[FR Doc. 2014-06344 Filed 3-21-14; 8:45 am]

BILLING CODE 6717-01-P